DEPARTMENT OF LABOR

Employment and Training Administration

[TA-W-73,067]

Slash Support, Inc. Gamehouse Products Support Workers South Jordan, UT; Notice of Revised Determination on Reconsideration

By application dated March 25, 2010, the Department of Labor (Department) received a request for administrative reconsideration of the Department's Notice of negative determination regarding workers' eligibility to apply for Trade Adjustment Assistance (TAA) and Alternative Trade Adjustment Assistance (ATAA) applicable to workers and former workers of Slash Support, Inc., Gamehouse Products Support Workers, South Jordan, Utah. The negative determination was issued on February 26, 2010. The Department's Notice of determination was published in the Federal Register on April 23, 2010 (75 FR 21362). The subject workers provide technical support services for the cybernet.

The determination was based on the finding that the subject workers did not meet the employment criterion.

In the request for reconsideration, the petitioner supplied new information regarding the number of workers separated from the subject firm.

During the reconsideration investigation, the Department received additional information from the subject firm which revealed that a significant proportion or number of workers at the subject firm was totally or partially separated, or threatened with such separation; the supply of technical support services declined at the subject firm during the period of investigation; increased imports by the subject firm's major declining customers of services like or directly competitive with the technical support services supplied by the subject firm; and the increased imports of technical support services contributed importantly to worker separations at the subject firm.

Based on the additional information obtained during the reconsideration investigation, the Department determines that the criteria set forth in Section 222(a) have been met.

Conclusion

After careful review of the additional facts obtained on reconsideration, I determine that workers of Slash Support, Inc., GameHouse Products Support Workers, South Jordan, Utah, who were engaged in employment related to the supply of technical support services for the cybernet, meet the worker group certification criteria under Section 222(a) of the Act, 19 U.S.C. 2272(a). In accordance with Section 223 of the Act, 19 U.S.C. 2273, I make the following certification:

All workers of Slash Support, Inc., GameHouse Products Support Workers, South Jordan, Utah, who became totally or partially separated from employment on or after October 28, 2008, through two years from the date of this certification, and all workers in the group threatened with total or partial separation from employment on date of certification through two years from the date of certification, are eligible to apply for adjustment assistance under Chapter 2 of Title II of the Trade Act of 1974, as amended.

Signed in Washington, DC, this 25th day of June, 2010.
Del Min Amy Chen,
Certifying Officer, Division of Trade Adjustment Assistance.

[FR Doc. 2010-17450 Filed 7-16-10; 8:45 am]

BILLING CODE 4510-FN-P